CONSUMER PRODUCT SAFETY COMMISSION

Sunshine Act Meetings Notice

TIME AND DATE: Wednesday January 27, 2016, 9:30 a.m.-11:00 a.m.

PLACE: Room 837-C, Enter on the Fourth Floor, Bethesda Towers, 4330 East West Highway, Bethesda, Maryland.

STATUS: Commission Meeting—Open to the Public.

Matter To Be Considered: Decisional Matter: Voluntary Standards Activities, Commission Participation and Employee Involvement—Final Rule to Amend 16 CFR part 1031.

A live webcast of the Meeting can be viewed at www.cpsc.gov/live.

TIME AND DATE: Wednesday, January 27, 2016; 11:00 a.m.-12:00 p.m.

PLACE: Room 837-C, Bethesda Towers, 4330 East West Highway, Bethesda, Maryland.

STATUS: Commission Meeting—Closed to the Public.

MATTER TO BE CONSIDERED: Compliance Matters: The Commission staff will brief the Commission on compliance matters.

CONTACT PERSON FOR MORE INFORMATION: Todd A. Stevenson, Office of the Secretary, U.S. Consumer Product Safety Commission, 4330 East West Highway, Bethesda, MD 20814, (301) 504-7923.

Dated: January 19, 2016.
Todd A. Stevenson,
Secretariat.

[FR Doc. 2016-01327 Filed 1-20-16; 11:15 am]

BILLING CODE 6355-01-P